SMALL BUSINESS ADMINISTRATION

[Declaration of Economic Injury Disaster #9K78]

State of Florida; (Amendment #1)

The above numbered declaration is hereby amended to include Nassau, Taylor and Walton Counties and the contiguous counties of Baker, Bay, Dixie, Duval, Holmes, Jefferson, Lafayette, Madison, Okaloosa and Washington in the State of Florida; Covington and Geneva in the State of Alabama; and Camden and Charlton in the State of Georgia as an economic injury disaster loan area due to freezing temperatures.

The number assigned for economic injury is 9L2400 for Alabama, and 9L2500 for Georgia.

All other information remains the same, i.e., applications for economic injury may be filed until November 13, 2001.

(Catalog of Federal Domestic Assistance Program No. 59002.)

Dated: March 26, 2001.
John Whitmore,
Acting Administrator.

[FR Doc. 01-8222 Filed 4-3-01; 8:45 am]

BILLING CODE 8025-01-U